DEPARTMENT OF HOMELAND SECURITY

Federal Emergency Management Agency

[Docket ID FEMA-2010-0032]

Federal Radiological Preparedness Coordinating Committee

AGENCY: Federal Emergency Management Agency, DHS.

ACTION: Notice of public meeting.

SUMMARY: The Federal Radiological Preparedness Coordinating Committee is holding a public meeting on September 28, 2010 in Arlington, VA.

DATES: The meeting will take place on September 28, 2010. The session is open to the public and will take place from 9 a.m. to 11 a.m. Send written statements and requests to make oral statements to the person listed in the FOR FURTHER INFORMATION CONTACT section by close of business September 25, 2010.

ADDRESSES: The meeting will be held at the Marriott Crystal Gateway located at 1700 Jefferson Davis Highway, Arlington, VA 22202, in the Alexandria Room.

FOR FURTHER INFORMATION CONTACT: Timothy Greten, FRPCC Executive Secretary, DHS/FEMA, 1800 South Bell Street—CC847, Mail Stop 3025, Arlington, VA 20598-3025; telephone (202) 646-3907; fax (703) 305-0837; or e-mail timothy.greten@dhs.gov.

SUPPLEMENTARY INFORMATION: The role and functions of the Federal Radiological Preparedness Coordinating Committee (FRPCC) are described in 44 CFR 351.10(a) and 351.11(a). The FRPCC is holding a public meeting on September 28, 2010, from 9 a.m. to 11 a.m., at the Marriott Crystal Gateway located at 1700 Jefferson Davis Highway, Arlington, VA 22202, in the Alexandria Room. Please note that the meeting may close early. This meeting is open to the public. Public meeting participants must pre-register to be admitted to the meeting. To pre-register, please provide your name and telephone number by close of business on September 25, 2010, to the individual listed in the FOR FURTHER INFORMATION CONTACT section.

The tentative agenda for the FRPCC meeting includes: (1) Introductions, (2) reports from FRPCC Subcommittees, (3) status of finalization of Radiological Emergency Preparedness (REP) Program Manual and NUREG-0654 Supplement 4, and (4) REP Program Manual and Supplement 4 Implementation “Impact Papers.” The FRPCC Chair shall conduct the meeting in a way that will facilitate the orderly conduct of business. Reasonable provisions will be made, if time permits, for oral statements from the public of not more than five minutes in length. Any member of the public who wishes to make an oral statement at the meeting should send a written request for time by close of business on September 25, 2010, to the individual listed in the FOR FURTHER INFORMATION CONTACT section. Any member of the public who wishes to file a written statement with the FRPCC should provide the statement by close of business on September 25, 2010, to the individual listed in the FOR FURTHER INFORMATION CONTACT section. For further information and to review any supporting documents please go to http://www.regulations.gov, Docket ID FEMA-2010-0032.

Information on Services for Individuals With Disabilities

For information on facilities or services for individuals with disabilities or to request special assistance at the meeting, please write or call the individual listed in the FOR FURTHER INFORMATION CONTACT section as soon as possible.

Authority: 44 CFR 351.10(a) and 351.11(a).

Timothy W. Manning,
Deputy Administrator, Protection and National Preparedness, Federal Emergency Management Agency.

[FR Doc. 2010-22984 Filed 9-14-10; 8:45 am]

BILLING CODE 9110-21-P